DEPARTMENT OF HEALTH AND HUMAN SERVICES

National Institutes of Health

Submission for OMB Review; Comment Request; Evaluation of the National Institute on Deafness and Other Communication Disorders Partnership Program

SUMMARY: Under the provisions of section 3506(c)(2)(A) of the Paperwork Reduction Act of 1995, the National Institute on Deafness and Other Communication Disorders (NIDCD), the National Institutes of Health (NIH), has submitted to the Office of Management and Budget (OMB) a request to review and approve the information collection listed below. The proposed information collection was previously published in the Federal Register on May 11, 1999 (64 FR 25360) and allowed 60 days for public comment. No comments were received. The purpose of this notice is to allow an additional 30 days for public comment.

5 CFR 1320.5 (General requirements) Reporting and Recordkeeping Requirements: Final Rule requires that the agency inform the potential persons who are to respond to the collection of information that such persons are not required to respond unless it displays a currently valid OMB control number.

Proposed Collection: Title: Evaluation of the NIDCD Partnership Program. Type of Information Collection Request: NEW. Need and Use of Information Collection: The NIDCD was established to support biomedical and behavioral research and research training in hearing, smell, balance, taste, voice, speech and language. Although minorities and women will dominate the work force within the next decade, both groups are under represented in the science and health professional field. Because of this concern, the NIDCD, with assistance from the Office of Research on Minority Health, established the Partnership Program in 1994 to increase the number of minority scientists and health care professionals doing research on communication and communication disorders. The proposed survey will yield data about: (1) reasons for participation in the program; (2) satisfaction of participants with the program and (3) how participation in the program has lead to the pursuit of a career in the health field. This survey will track the Partnership Program's success at increasing the number of women and minorities who are scientists. Frequency of Response: One. Affected Public: Individuals. Type of Respondent: Partnership Program Participants. The annual reporting burden is as follows: Estimated Number of Respondents: 76; Estimated Number of Responses per Respondent: 1; Average Burden Hours Per Response: 0.5; and Estimated Total Annual Burden Hours Requested: 38. The annualized cost to respondents is estimated at: $380. There are no Capital Costs to report. There are no Operating or Maintenance Costs to report.

Note: The following table is acceptable for the Respondent and Burden Estimate Information, if appropriate, instead of the text as shown above.

Type of respondents | Estimated number of respondents | Estimated number of responses per respondent | Average burden hours per response | Estimated total annual burden hours requested
Initial program participant survey | 16 | 1 | 0.5 | 8
Follow up survey of participant | 60 | 1 | 0.5 | 30
Total | 76 |  |  | 38

Request for Comments: Written comments and/or suggestions from the public and affected agencies are invited on one or more of the following points: (1) Whether the proposed collection of information is necessary for fulfillment of the NIDCD mission, including whether the information will have practical utility; (2) the accuracy of the estimate of the burden of the proposed data collection, including the validity of the methodology; (3) ways to enhance the quality, utility, and clarity of the data collection and (4) ways to minimize the burden of the collection of information on the respondents, including appropriate use of automated collection techniques and information technology.

Direct Comments To OMB: Written comments and/or suggestions regarding the item(s) contained in this notice, especially regarding the estimated public burden and associated response time, should be directed to the Office of Management and Budget, Office of Regulatory Affairs, New Executive Office Building, Room 10235, Washington, D.C. 20503, Attention: Desk Officer for NIH. To request more information on the proposed project or to obtain a copy of the data collection plans and instruments, contact: Mrs. Kay C. Johnson-Graham, EEO Officer, Office of Equal Employment Opportunity, NIDCD, NIH, Building 31, Room 3C08, 31 Center Drive, Bethesda, MD 20892, or call non-toll-free number (301) 402-6415 or E-mail your request, including your address to: <kay_johnson@ms.nidcd.nih.gov>.

Comments Due Date: Comments regarding this information collection are best assured of having their full effect if received on or before March 6, 2000.

Dated: January 28, 2000.
David Kerr,
Executive Officer, National Institute on Deafness and Other Communication Disorders

[FR Doc. 00-2352 Filed 2-2-00; 8:45 am]

BILLING CODE 4140-01-P